ENVIRONMENTAL PROTECTION AGENCY

[FRL-8931-2]

Casmalia Disposal Site; Notice of Proposed CERCLA Administrative De Minimis Settlement

AGENCY: Environmental Protection Agency (EPA).

ACTION: Notice; request for public comment.

SUMMARY: In accordance with section 122(i) of the Comprehensive Environmental Response, Compensation, and Liability Act, as amended (CERCLA) and section 7003 of the Resource Conservation and Recovery Act (RCRA), the EPA is hereby providing notice of a proposed administrative de minimis settlement concerning the Casmalia Disposal Site in Santa Barbara County, California (the Casmalia Disposal Site). Section 122(g) of CERCLA provides EPA with the authority to enter into administrative de minimis settlements. This settlement is intended to resolve the liabilities of 35 settling parties for the Casmalia Disposal Site under sections 106 and 107 of CERCLA and section 7003 of RCRA, and also to resolve their liability for response costs and potential natural resource damage claims by the United States Fish and Wildlife Service (USFWS), the National Oceanic and Atmospheric Administration (NOAA) and the United States Air Force (USAF). These parties, identified below, originally received settlement offers in 1999 or 2000 but raised an issue that has now been resolved. Most of those resolving their liability to the EPA have also elected to resolve their liability for response costs and potential natural resource damage claims by the USFWS, NOAA and the USAF. The settling parties sent 12,776,838 lbs. of waste to the Site, which represents 0.228% of total Site waste. This settlement requires these parties to pay over $1.25 million to EPA. EPA is simultaneously publishing another Federal Register Notice relating to another settlement with de minimis parties that had received offers between 2005 and 2008.

Settling Parties: Parties that have elected to settle their liability at this time are as follows: Advanced Coatings & Chemical; AK Steel Corporation, Successor by Merger to Armco, Inc.; Barron Anodizing & Paint; BioResearch, Inc.; C&W Pallet Enterprises, Inc.; City of San Jose; CTS Corporation (CTS Keene, Inc.); CTS Printex Inc.; E.C. Loomis & Son; General Atomics; Goleta Water District; Guadalupe Union School District; Kevex Corporation; Lear Siegler Diversified Holdings Corp.; Paccar, Inc.; Plessey Semiconductors, Inc.; Redevelopment Agency of the City of San Jose; Rosemary Farm; Santa Palm Car Wash; Saticoy Lemon Association; Siemens Communications, Inc.; Siemens Energy & Automation Inc.; Siemens Medical Systems, Inc., Oncology Care Systems Group; SMI Holding, LLC; Sweetwater Union High School District; Technitron Incorporated; Texas Instruments Tucson Corporation (f/k/a Burr-Brown Research Corporation); Tenneco Packaging, Inc. (n/k/a Pactiv Corporation); Thermo Finnigan LLC, Formerly Finnigan Corporation; Thermo Securities Corporation (as Successor to Cal-Doran Metallurgical Service); Thermo Separation Products, Inc.; U.S. Coast Guard; U.S. Department of Interior; U.S. Department of Veteran Affairs; U.S. Environmental Protection Agency.

DATES: EPA will receive written comments relating to the settlement until August 17, 2009. EPA will consider all comments it receives during this period, and may modify or withdraw consent to the settlement if any comments disclose facts or considerations indicating that the settlement is inappropriate, improper, or inadequate.

Public Meeting: In accordance with section 7003(d) of RCRA, 42 U.S.C. 6973(d), commenters may request an opportunity for a public meeting in the affected area. The deadline for requesting a public meeting is July 31, 2009. Requests for a public meeting may be made by contacting Karen Goldberg by e-mail at goldberg.karen@epa.gov, or by facsimile at (415) 947-3570. If a public meeting is requested, information about the date and time of the meeting will be published in the local newspaper, The Santa Maria Times, and will be sent to persons on the EPA's Casmalia Site mailing list. To be added to the mailing list, please contact: Jackie Lane at (415) 972-3236 or by e-mail at lane.jackie@epa.gov.

A copy of the settlement document may be obtained by calling (415) 369-0559 extension 10, and leaving a message with your name, phone number, and mailing address or e-mail address.

ADDRESSES: Written comments should be addressed to Karen Goldberg, U.S. Environmental Protection Agency Region IX, 75 Hawthorne Street (mail code RC-3), San Francisco, California 94105-3901, or may be faxed to her at (415) 947-3570 or sent by e-mail to goldberg.karen@epa.gov. A copy of the comments should be sent to: Caroline Rudolph, Project Coordinator, DTSC, P.O. Box 806, Sacramento, California 95812-0806.

FOR FURTHER INFORMATION CONTACT: Additional information about the Casmalia Disposal Site and about the proposed settlement may be obtained on the Casmalia Web site at: http://www.epa.gov/region09/casmalia or by calling Karen Goldberg at (415) 972-3951.

Dated: July 2, 2009.
Keith Takata,
Director, Superfund Division, Region IX.

[FR Doc. E9-16863 Filed 7-16-09; 8:45 am]

BILLING CODE 6560-50-P